DEPARTMENT OF AGRICULTURE

Rural Utilities Service

Norborne Baseload Plant: Notice of Availability of Final Environmental Impact Statement

AGENCY: Rural Utilities Service, USDA.

ACTION: Notice of Availability of Final Environmental Impact Statement.

SUMMARY: The Rural Utilities Service (RUS), an agency delivering the United States Department of Agriculture (USDA) Rural Development Utilities Programs, hereinafter referred to as Rural Development, is issuing a Final Environmental Impact Statement (EIS) for the Norborne Baseload Plant (Norborne Plant). The Final EIS was prepared pursuant to the National Environmental Policy Act of 1969 (NEPA) (U.S.C. 4231 et seq.) in accordance with the Council on Environmental Quality (CEQ) regulations for implementing the procedural provisions of NEPA (40 CFR 1500-1508) and RUS regulations (7 CFR 1794). The U.S. Army Corps of Engineers is a cooperating agency for this Final EIS. Rural Development invites comments on the Final EIS.

The purpose of the EIS is to evaluate the potential environmental impacts of and alternatives to the Associated Electric Cooperative, Inc. (AECI) application for Rural Development financing to construct the proposed 660 megawatt (MW) net supercritical pulverized coal (SCPC) fired power plant in Carroll County, Missouri, near the town of Norborne. AECI also proposes to construct new and modified substations, approximately 134 miles of new 345-kV transmission lines, a utility waste landfill, new rail access from existing mainline railroads, and a water supply system consisting of groundwater wells and associated pipeline.

DATE: Written comments on this Final EIS will be accepted on or before August 9, 2007.

ADDRESSES: To obtain copies of the Final EIS or for further information, contact: Stephanie A. Strength, USDA, Rural Development Utilities Programs, 1400 Independence Avenue, SW., Mail Stop 1570, Room 2244, Washington, DC 20250-1570, telephone (202) 720-0468, fax (202) 720-0820, or e-mail: Stephanie.strength@wdc.usda.gov.

A copy of the Final EIS has been sent to affected federal, state, and local government agencies and to interested parties and can be viewed online at: http://www.usda.gov/rus/water/ees/eis.htm.

Copies of the Final EIS will also be available for public review at the following locations (hours vary; contact individual repositories for available times):

Boonslick Regional Library Sedalia Branch, 219 W. 3rd Street, Sedalia, MO 65301, Phone: 660/827-7323.

Boonslick Regional Library, 950 E. Main Street, Warsaw, MO 65355, Phone: 660/438-5211.

Cameron Public Library, 312 N. Chestnut Street, Cameron, MO 64429, Phone: 816/632-2311.

Carnegie Library, 316 Massachusetts Street, St. Joseph, MO 64504, Phone: 816/238-0526.

Carrollton Public Library, 1 N. Folger Street, Carrollton, MO 64633, Phone: 660/542-0183.

Concordia Library, 709 S. Main Street, Concordia, MO 64020, Phone: 660/463-2277.

DeKalb County Public Library, 105 N. Polk Street, Maysville, MO 64469, Phone: 816/449-5695.

Dulany Memorial Library, 501 S. Broadway, Salisbury, MO 65281, Phone: 660/388-5712.

Downtown Library, 927 Felix Street, St. Joseph, MO 64501, Phone: 816/232-7729.

East Hills Library, 502 N. Woodbine Road, Suite A., St. Joseph, MO 64506, Phone: 816/236-2136.

Hale Library & Museum, 321 Main Street, Hale, MO 64643, Phone: 660/565-2617.

Lexington Library, 1008 Main Street, Lexington, MO 64067, Phone: 660/259-3071.

Little Dixie Regional Library, 111 N. 4th Street, Moberly, MO 65270, Phone: 660/263-4426.

Macon Public Library, 210 N. Rutherford Street, Macon, MO 63552, Phone: 660/385-3314.

Marshall Public Library, 214 N. Lafayette, Marshall, MO 65340, Phone: 660/886-3391.

Maryville Public Library, 509 N. Main Street, Maryville, MO 64468, Phone: 660/582-5281.

Mid-Continent Public Library, Excelsior Springs Branch, 1460 Kearney Road, Excelsior Springs, MO 64024-1746, Phone: 816/630-6721.

Mid-Continent Public Library, Kearney Branch, 100 S. Platte-Clay Way, Kearney, MO 64060-7640, Phone: 816/628-5055.

Mound City Public Library, 205 E. 6th Street, Mound City, MO 64470, Phone: 660/442-5700.

Norborne Public Library, 109 E. Second Street, Norborne, MO 64668, Phone: 660-593-3514.

Oregon Public Library, 103 S. Washington Street, Oregon, MO 64473, Phone: 660/446-3586.

Ray County Library, 215 E. Lexington Street, Richmond, MO 64085, Phone: 816/776-5104.

Rolling Hills Consolidated Library: Eastside, 1904 N. Belt Highway, St. Joseph, MO 64506, Phone: 816/232-5479.

Rolling Hills Consolidated Library: Savannah, 514 W. Main Street, Savannah, MO 64485, Phone: 816/324-4569.

Robertson Memorial Library, 19 W. 20th Street, Higginsville, MO 64037, Phone: 660/584-2880.

Sedalia Public Library, 311 W. Third Street, Sedalia, MO 65301, Phone: 660/826-1314.

Sweet Springs Public Library, 217 Turner Street, Sweet Springs, MO 65351, Phone: 660/335-4314.

Washington Park Library, 1821 N. Third Street, St. Joseph, MO 64505, Phone: 816/232-2052.

SUPPLEMENTARY INFORMATION: AECI is contractually obligated to provide all the electric power needs of the cooperative member systems it serves and does not have the capacity to cost effectively meet all of its members' power needs beyond about 2013. More information on the purpose and need for the proposal is in Chapter 1 of the Final EIS.

On August 10, 2005, Rural Development published in the Federal Register a Notice of Intent to prepare an EIS for the Norborne Plant. The EIS focused on potential impacts to the following resources: Soils, topography and geology; water resources, air quality, biological resources, the acoustic environment, recreation, cultural and historic resources, visual resources, transportation, farmland, land use, waste management, human health and safety, the socioeconomic environment, environmental justice, and cumulative effects. On January 11, 2007, Rural Development published its Notice of Availability of the Draft EIS for the proposed project in the Federal Register. The 60-day comment period ended on March 12, 2007. Several hundred comments were received on the Draft EIS; a comment/response summary is appended to the Final EIS.

Alternatives evaluated in the Final EIS include: Power purchase agreements; energy conservation and efficiency; renewable non-combustible energy sources (wind energy, solar energy, hydroelectricity, geothermal energy); renewable combustible energy sources (biomass, biogas, municipal solid waste); non-renewable combustible energy sources (natural gas combined cycle, microturbines, fuel cells, SCPC, circulating fluidized bed coal, integrated gasification combined cycle coal, oil), nuclear power, and adding capacity at an existing facility. Site screening and selection was an iterative process that began with identification of avoidance areas, then identifying eight potential sites that met various criteria including proximity to water supply and rail. Several same-site alternatives for railroad spur and transmission line alignments were evaluated.

Alternatives assessed in detail include the: (1) No Action Alternative; (2) Proposed Action (construction/operation of the Norborne Plant); (3) Big Lake Site (construction/operation of a plant similar to the Norborne Plant but in a different location); and (4) integrated gasification combined cycle (IGCC) (a technology alternative). The No Action Alternative avoids most direct adverse environmental effects, but potentially entails a number of indirect and cumulative impacts associated with other generation sources from which AECI would have to purchase power if unable to generate its own. Potential impacts on floodplains, wetlands, public lands, recreation, visual resources, fisheries and wildlife, threatened and endangered species, cultural resources and environmental justice would be expected to be greater with the Big Lake Site than with the Norborne Site. Other impacts would be expected to be similar. Impacts associated with the use of IGCC would be expected to be similar to those of the Proposed Action. AECI's Proposed Action has been identified as Rural Development's Preferred Alternative.

Rural Development has concluded that, with actions that have been incorporated into the Preferred Alternative to reduce or avoid impacts, no impacts of the Preferred Alternative meet the CEQ threshold criteria for significant impacts. Any final action by Rural Development related to the proposed project will be subject to, and contingent upon, compliance with all relevant federal, state and local environmental laws and regulations, and completion of the environmental review requirements as prescribed in the USDA Rural Utilities Services' Environmental Policies and Procedures (7 CFR part 1794).

Dated: June 29, 2007.
James R. Newby,
Assistant Administrator, USDA/Rural Development/Utilities Programs.

[FR Doc. E7-13299 Filed 7-12-07; 8:45 am]

BILLING CODE 3410-15-P